FEDERAL RESERVE SYSTEM

Change in Bank Control Notices; Acquisitions of Shares of a Bank or Bank Holding Company

The notificants listed below have applied under the Change in Bank Control Act (Act) (12 U.S.C. 1817(j)) and § 225.41 of the Board's Regulation Y (12 CFR 225.41) to acquire shares of a bank or bank holding company. The factors that are considered in acting on the notices are set forth in paragraph 7 of the Act (12 U.S.C. 1817(j)(7)).

The applications listed below, as well as other related filings required by the Board, if any, are available for immediate inspection at the Federal Reserve Bank indicated. The applications will also be available for inspection at the offices of the Board of Governors. Interested persons may express their views in writing on the standards enumerated in paragraph 7 of the Act.

Comments regarding each of these applications must be received at the Reserve Bank indicated or the offices of the Board of Governors, Ann E. Misback, Secretary of the Board, 20th and Constitution Avenue NW, Washington, DC 20551-0001, not later than March 16, 2020.

A. Federal Reserve Bank of Atlanta (Kathryn Haney, Assistant Vice President) 1000 Peachtree Street, NE, Atlanta, Georgia 30309. Comments can also be sent electronically to Applications.Comments@atl.frb.org:

1. S3 Dynamics, L.P., and S3 Management, L.L.C. (the managing members of which are John Charles Simpson, New Orleans, Louisiana; John Charles Simpson, Jr., Fenton, Missouri; and Simeon A. Thibeaux, Alexandria, Louisiana), as general partner, both of Alexandria, Louisiana; to become members of the Simpson Family Control Group and to acquire voting shares of Red River Bancshares, Inc., and thereby indirectly acquire voting shares of Red River Bank, both of Alexandria, Louisiana.

B. Federal Reserve Bank of Chicago (Colette A. Fried, Assistant Vice President) 230 South LaSalle Street, Chicago, Illinois 60690-1414:

1. Rex R. Weaver, Granger, Iowa, Steven L. Afdahl, Temecula, California, and Daniel L. Stockdale, Iowa Falls, Iowa, as co-trustees of the Rex R. Weaver Revocable Trust II Agreement, and Christopher W. Weaver, Iowa Falls, Iowa, each individually and together as a group acting in concert; to retain voting shares of Green Belt Bancorporation and thereby indirectly acquire voting shares of Green Belt Bank & Trust, both of Iowa Falls, Iowa.

Board of Governors of the Federal Reserve System, February 25, 2020.
Yao-Chin Chao
Assistant Secretary of the Board.

[FR Doc. 2020-04161 Filed 2-28-20; 8:45 am]

BILLING CODE P